FEDERAL COMMUNICATIONS COMMISSION

Sunshine Act Meeting; Open Commission Meeting; Thursday, June 13, 2002

June 6, 2002.

The Federal Communications Commission will hold an Open Meeting on the subjects listed below on Thursday, June 13, 2002, which is scheduled to commence at 9:30 a.m. in Room TW-C305, at 445 12th Street, SW., Washington, DC.

Item No. | Bureau | Subject
1 | Media | Title: Implementation of the Cable Television Consumer Protection and Competition Act of 1992; Development of Competition and Diversity in Video Programming Distribution: Section 628(c)(5) of the Communications Act—Sunset of Exclusive Contract Prohibition (CS Docket No. 01-290). Summary: The Commission will consider a Report and Order concerning the possible sunset of Section 628(c)( 2)(D).
2 | Media | Title: Revisions to Cable Television Rate Regulations; Implementation of Sections of the Cable Television Consumer Protection and Competition Act of 1992; Rate Regulations (MM Docket Nos. 92-266 and 93-215); Adoption of a Uniform Accounting System for the Provision of Regulated Cable Service (CS Docket No. 94-28); and Cable Pricing Flexibility (CS Docket No. 96-157). Summary: The Commission will consider a Notice of Proposed Rulemaking and Order concerning cable television rate regulations.
3 | Media | Title: Annual Assessment of the Status of Competition in the Market for the Delivery of Video Programming. Summary: The Commission will consider a Notice of Inquiry seeking information and comment for the Ninth Annual Report to Congress on the status of competition in the market for the delivery of video programming.
4 | Wireless Telecommunications | Title: Implementation of Section 6002(b) of the Omnibus Budget Reconciliation Act of 1993—Annual Report and Analysis of Competitive Market Conditions with Respect to Commercial Mobile Services. Summary: The Commission will consider a Seventh Report concerning the status of competition with respect to Commercial Mobile Services.
5 | Wireless Telecommunications and Office of Engineering and Technology | Title: Service Rules for Use of the 71-76 GHz, 81-86 GHz and 92-95 GHz Bands; and Loea Communications Corporation Petition for Rulemaking (RM-10288). Summary: The Commission will consider a Notice of Proposed Rulemaking concerning service rules for the 71-76 GHz, 81-86 GHz and 92-95 GHz.
6 | Wireline Competition | Title: Schools and Libraries Universal Service Support Mechanism (CC Docket No. 02-6). Summary: The Commission will consider an Order modifying section 54.507(a) of its rules as it pertains to unused funding.
7 | Wireline Competition and Office of Engineering and Technology | Title: Telecommunications Service Priority Program Report. Summary: The Commission's Wireline Competition Bureau and Office of Engineering & Technology and the National Communications System will report on the Telecommunications Service Priority program and related outreach efforts.

Additional information concerning this meeting may be obtained from Maureen Peratino or David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

This meeting can be viewed over George Mason University's Capitol Connection. The Capitol Connection also will carry the meeting live via the Internet. For information on these services call (703) 993-3100. The audio portion of the meeting will be broadcast live on the Internet via the FCC's Internet audio broadcast page at<http://www.fcc.gov/realaudio/>. Audio and video tapes of this meeting can be purchased from Infocus, 341 Victory Drive, Herndon, VA 20170, telephone (703) 834-1470, Ext. 10; fax number (703) 834-0111.

Federal Communications Commission.
Marlene H. Dortch,
Secretary.

[FR Doc. 02-14910 Filed 6-10-02; 11:49 pm]

BILLING CODE 6712-01-P